ENVIRONMENTAL PROTECTION AGENCY

[FRL-7101-4]

Environmental Laboratory Advisory Board (ELAB), Nominees, Meeting Dates, and Agenda

AGENCY: Environmental Protection Agency.

ACTION: Solicitation of nominees for membership and notice of open meeting.

SUMMARY: The Environmental Protection Agency (EPA) is soliciting nominees to serve on the Environmental Laboratory Advisory Board (ELAB). Nominees are being sought to fill vacancies in the following category: Field Testing. Terms of service will commence upon selection and terminate on July 27, 2003. Application forms must be submitted to provide information on experience, abilities, stakeholder interest, organizational description, and references. A copy of the application form can be obtained on the Internet (see address below). The Agency will convene an Open Forum on December 6th, 2001 from 5 p.m. to 6:30 p.m. at the Crystal Gateway Marriott at 1700 Jefferson Davis Highway, Arlington VA. The Open Forum will be structured to allow interested parties to present their views to ELAB. Allotted speaking time will be dependent upon the number of attendees wishing to speak. On December 7th from 9 a.m. to 12 p.m. at the same location, the ELAB board will meet to discuss the opinions and ideas presented on the previous day, and time permitting, will take questions from the public.

ELAB is soliciting input from the public on issues related to the NELAC environmental laboratory accreditation program and NELAC standards. The agenda of the ELAB December 7th meeting will be based on input gathered from the Open Forum as well as a review of recommendations and activities from earlier Board meetings. Written comments on NELAC laboratory accreditation and standards are encouraged and should be sent to Edward Kantor DFO, P.O. Box 93478, Las Vegas, NV 89193, or can be faxed to (702) 798-2261 or e-mailed to kantor.edward@epa.gov. ELAB nominee applications can be found at http://www.epa.gov/ttn/nelac/arcmisc.html and should be mailed, faxed, or e-mailed to the addresses previously given. http://www.epa.gov/ttn/nelac/arcmisc.html.

Henry L. Longest II,
Acting Assistant Administrator for Research and Development.

[FR Doc. 01-28196 Filed 11-8-01; 8:45 am]

BILLING CODE 6560-50-P